DEPARTMENT OF VETERANS AFFAIRS

Capital Asset Realignment for Enhanced Services (CARES) Commission; Notice fo Meeting

The Department of Veterans Affairs (VA) gives notice under Public Law 92-463 (Federal Advisory Committee Act) that the Capital Asset Realignment for Enhanced Services (CARES) Commission will hold its fourth meeting on Tuesdays and Wednesday, May 13 and 14, 2003, at Sofitel Lafayette Square Hotel, 806 15th Street, NW., Washington, DC 20005. On May 13, the session will begin at 8:30 a.m. and end at 3 p.m. On May 14, the session will begin at 8:30 a.m. and end at 5 p.m. The meeting is open to the public.

The purpose of the Commission is to conduct an external assessment of VA's capital asset needs and to assure that stakeholder and beneficiary concerns are fully addressed. The Commission will consider recommendations prepared by VA's Under Secretary for Health, veterans service organizations, individual veterans, Congress, medical school affiliates, VA employees, local government entities, community groups and others. Following its assessment, the Commission will make specific recommendations to the Secretary of Veterans Affairs regarding the realignment and allocation of capital assets necessary to meet the demands for veterans health care services over the next 20 years.

On May 13, the Commission will decide whether the National CARES Planning Office reasonably adhered to uniform application of policy guidance and made consistent application of the data when establishing the Planning Initiatives. A status report on the review of the CARES Model will be presented and briefings will be provided on the potential impact of homeland security issues on VA health care delivery, and by representatives from the President's Task Froce to Improve Health Care Delivery for Our Nation's Veterans and the Office of Management and Budget.

On May 14, a summary of the staff review of Market Plans will be presented. Briefings will be provided on mental health care and on enhanced use of capital assets. A briefing will also be presented by a representative from the General Accounting Office.

No time will be allocated at this meeting for receiving oral presentations from the public. However, interested persons may either attend or file statements with the Commission. Written statements may be filed either before the meeting or within 10 days after the meeting, addressed to: Department of Veterans Affairs, CARES Commission (OOCARES), 810 Vermont Avenue, NW., Washington, DC 20420. Any member of the public wishing additional information should contact Mr. Richard E. Larson, Executive Director, CARES Commission, at the address above or at (202) 501-2000.

Dated: April 25, 2003.
By Direction of the Secretary.
E. Philip Riggin,
Committee Management Officer.

[FR Doc. 03-10858 Filed 5-1-03; 8:45 am]

BILLING CODE 8320-01-M